DEPARTMENT OF ENERGY

Federal Energy Regulatory Commission

[Docket No. EL09-40-000]

Southwest Power Pool, Inc.; Notice Pursuant to Section 206(b) of the Federal Power Act

September 11, 2009.

On March 19, 2009, pursuant to section 206 of the Federal Power Act (FPA),¹ the Commission instituted a proceeding in Docket No. EL09-40-000. Southwest Power Pool, Inc., 126 FERC ¶ 61,243 (2009). The refund effective date for the proceeding instituted in Docket No. EL09-40-000 is March 27, 2009, the date of publication in the Federal Register ² of notice of the Commission's action in this proceeding.

¹ 16 U.S.C. 824e (2006).

² 74 FR 13428 (2009).

Under section 206 of the FPA, if no final decision is rendered by the conclusion of the 180-day period commencing upon initiation of a proceeding pursuant to section 206, the Commission must state why it has failed to render a final decision. In that event the Commission must also provide its best estimate as to when it reasonably expects to make such a decision.

The Commission will be unable to render a final decision by the refund effective date because additional time is needed to analyze the issues. The Commission estimates that it will be able to issue a decision by December 31, 2009. This estimate is influenced by the complexity of the issues in the proceeding.

The Secretary of the Commission issues this notice pursuant to section 375.302(w) of the Commission's rules, 18 CFR 375.302(w) (2009).

Kimberly D. Bose,
Secretary.

[FR Doc. E9-22474 Filed 9-17-09; 8:45 am]

BILLING CODE 6717-01-P